DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST)

Title: NIST MEP Advanced Manufacturing Jobs and Innovation Accelerator Challenge (AMJIAC) Client Impact Survey.

OMB Control Number: None.

Form Number(s): None.

Type of Request: Regular submission (new information collection).

Number of Respondents: 200.

Average Hours per Response: 15 minutes.

Burden Hours: 50.

Needs and Uses: The purpose of the AMJIAC is to provide strategic, catalytic funding for regional partnerships that have the potential to accelerate innovation and strengthen capacity in advanced manufacturing. The objectives of the challenge are to support job creation, encourage economic development, and enhance the competitiveness of U.S. manufacturers in regions across the country.

The information collected under this collection will be used to aid the NIST MEP to monitor and evaluate the Competitive Award Recipients participation in the AMJIAC program and to provide Congress with quantitative information required for Government-supported programs. The purpose of the collected information is as follows:

• Project Accountability.

• Project Evaluation.

• Award Recipient Evaluation.

• Analysis and Research.

• Reports to Stakeholders.

• Continuous Improvement.

• Knowledge Sharing.

• Identification of Distinctive Practices.

Affected Public: Business or other for-profit organizations; Not for profit institutions

Frequency: Quarterly.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Jasmeet Seehra, OMB Desk Officer, FAX number (202) 395-5167 or via the Internet at Jasmeet_K._Seehra@omb.eop.gov.

Dated: August 16, 2013.
Gwellnar Banks,
Management Analyst, Office of the Chief Information Officer.

[FR Doc. 2013-20464 Filed 8-21-13; 8:45 am]

BILLING CODE 3510-13-P